SMALL BUSINESS ADMINISTRATION

Federal Assistance To Provide Financial Counseling and Other Technical Assistance to Women in the State of Vermont

AGENCY: U.S. Small Business Administration.

ACTION: Amendment to Program Announcement No. OWBO-99-012, as amended by OWBO-2000-015.

SUMMARY: This notice amends the U. S. Small Business Administration's notice in the Federal Register, issued 2/25/02 (Volume 67, Number 37, page 8572), to correct the term of the project period of the Women's Business Center (WBC) project that will replace a project in the State of Vermont. Whereas the previous notice stated that the replacement WBC is to carry out a project for the remaining 3 years of a 5-year term, the correct project term for the replacement WBC will be the remaining 2 years of a 5-year term. The applicant must submit a plan for the two-year term of 07/01/02-06/30/03 and 07/01/03-06/30/04.

FOR FURTHER INFORMATION CONTACT: Denise Edmonds at (202) 205-6673 or denise.edmonds@sba.gov.

Wilma Goldstein,
Assistant Administrator, SBA/Office of Women's Business Ownership.

[FR Doc. 02-5403 Filed 3-6-02; 8:45 am]

BILLING CODE 8025-01-P